DEPARTMENT OF JUSTICE

Notice of Lodging of Proposed Agreed Modification of Consent Decree Under The Comprehensive Environmental Response, Compensation, and Liability Act

On August 11, 2023, the Department of Justice lodged a proposed Agreed Modification of the Consent Decree with the United States District Court for the Western District of Michigan in the lawsuit entitled United States of America and the State of Michigan v. NCR Corporation, Civil Action No. 1:19-cv-01041.

The United States, on behalf of the United States Environmental Protection Agency (“EPA”), and the State of Michigan, on behalf Michigan Department of Environment, Great Lakes, and Energy, filed suit in 2019 against NCR Corporation (“NCR”) under the Comprehensive Environmental Response, Compensation, and Liability Act for the recovery of response costs and the performance of response work at the Allied Paper, Inc./Portage Creek/Kalamazoo River Superfund Site in Michigan (the “Site”).

The Agreed Modification concern the provisions of the Original Consent Decree relating to Operable Unit 5, Area 3 (“OU5, Area 3”) of the Site, constituting a portion of the Kalamazoo River. The Original Consent Decree included a template Agreed Modification to amend the Decree to add the OU5, Area 3 Record of Decision and an updated Statement of Work. In May 2022, EPA issued the ROD for OU5, selecting a remedy with a current estimated cost of $34,000,000. This proposed Agreed Modification of the Consent Decree follows the template from the Original Consent Decree and will govern NCR's performance of that work.

Additionally, the Agreed Modification also makes one minor clarifying correction to the Original Consent Decree regarding how NCR should make installment payments to EPA for future response costs, specifying that the payments should go to the Financial Litigation Unit.

The publication of this notice opens a period for public comment on the Agreed Modification of the Consent Decree. Comments should be addressed to the Assistant Attorney General, Environment and Natural Resources Division, and should refer to United States of America and the State of Michigan v. NCR Corporation, D.J. Ref. No. 90-11-2-07912/11. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Agreed Modification of the Consent Decree may be examined and downloaded at this Justice Department website: https://www.justice.gov/enrd/consent-decrees.

We will provide a paper copy of the proposed Agreed Modification of the Consent Decree upon written request and payment of reproduction costs. Please mail your request and payment to: Consent Decree Library, U.S. DOJ—ENRD, P.O. Box 7611, Washington, DC 20044-7611.

Please enclose a check or money order for $57.25 (25 cents per page reproduction cost) payable to the United States Treasury.

Patricia McKenna,
Assistant Section Chief, Environmental Enforcement Section, Environment and Natural Resources Division.

[FR Doc. 2023-17905 Filed 8-18-23; 8:45 am]

BILLING CODE 4410-15-P